DEPARTMENT OF HOMELAND SECURITY

Federal Emergency Management Agency

44 CFR Part 64

[Docket ID FEMA-2011-0002; Internal Agency Docket No. FEMA-8191]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Virginia: Hampton, City of, Independent City | 515527 | March 27, 1970, Emerg; January 15, 1971, Reg; August 16, 2011, Susp. | Aug. 16, 2011 | Aug. 16, 2011.
Region IV
Alabama: Heflin, City of, Cleburne County | 010043 | May 28, 1975, Emerg; July 5, 1982, Reg; August 16, 2011, Susp. | ......do* | do.
Mississippi:
Mize, Town of, Smith County | 280160 | July 26, 1976, Emerg; January 1, 1986, Reg; August 16, 2011, Susp. | ......do | do.
Smith County, Unincorporated Areas | 280306 | June 8, 1990, Emerg; July 1, 1991, Reg; August 16, 2011, Susp. | ......do | do.
Taylorsville, Town of, Smith County | 280161 | July 28, 1975, Emerg; June 17, 1986, Reg; August 16, 2011, Susp. | ......do | do.
Region V
Illinois:
Ashkum, Village of, Iroquois County | 170287 | June 16, 1975, Emerg; April 20, 1979, Reg; August 16, 2011, Susp. | ......do | do.
Cissna Park, Village of, Iroquois County | 170289 | June 13, 1975, Emerg; September 29, 1986, Reg; August 16, 2011, Susp. | ......do | do.
Crescent City, Village of, Iroquois County | 170291 | December 26, 1974, Emerg; September 1, 1987, Reg; August 16, 2011, Susp. | ......do | do.
Gilman, City of, Iroquois County | 170293 | July 28, 1975, Emerg; September 1, 1987, Reg; August 16, 2011, Susp. | ......do | do.
Iroquois, Village of, Iroquois County | 170793 | April 11, 1975, Emerg; September 4, 1985, Reg; August 16, 2011, Susp. | ......do | do.
Iroquois County, Unincorporated Areas | 170731 | December 17, 1973, Emerg; September 30, 1988, Reg; August 16, 2011, Susp. | ......do | do.
Milford, Village of, Iroquois County | 170294 | April 10, 1975, Emerg; September 29, 1986, Reg; August 16, 2011, Susp. | ......do | do.
Thawville, Village of, Iroquois County | 170913 | January 2, 1976, Emerg; August 1, 1986, Reg; August 16, 2011, Susp. | ......do | do.
Watseka, City of, Iroquois County | 170297 | December 10, 1974, Emerg; June 15, 1979, Reg; August 16, 2011, Susp. | ......do | do.
Woodland, Village of, Iroquois County | 170819 | June 25, 1975, Emerg; September 30, 1988, Reg; August 16, 2011, Susp. | ......do | do.
Michigan:
Alaiedon, Township of, Ingham County | 260670 | April 9, 1976, Emerg; September 28, 1979, Reg; August 16, 2011, Susp. | ......do | do.
Aurelius, Township of, Ingham County | 261321 | January 4, 2011, Emerg; N/A, Reg; August 16, 2011, Susp. | ......do | do.
Delhi, Charter Township of, Ingham County | 260088 | September 15, 1975, Emerg; July 16, 1981, Reg; August 16, 2011, Susp. | ......do | do.
Lansing, Charter Township of, Ingham County | 260632 | August 25, 1975, Emerg; February 4, 1981, Reg; August 16, 2011, Susp. | ......do | do.
Lansing, City of, Ingham County | 260090 | March 9, 1973, Emerg; March 2, 1981, Reg; August 16, 2011, Susp. | ......do | do.
Leroy, Township of, Ingham County | 260906 | April 19, 1993, Emerg; N/A, Reg; August 16, 2011, Susp. | ......do | do.
Leslie, City of, Ingham County | 260091 | July 25, 1975, Emerg; August 10, 1979, Reg; August 16, 2011, Susp. | ......do | do.
Locke, Township of, Ingham County | 260671 | April 14, 1976, Emerg; August 10, 1979, Reg; August 16, 2011, Susp. | ......do | do.
Mason, City of, Ingham County | 260092 | April 24, 1975, Emerg; October 15, 1982, Reg; August 16, 2011, Susp. | ......do | do.
Meridian, Charter Township of, Ingham County | 260093 | December 30, 1971, Emerg; February 2, 1977, Reg; August 16, 2011, Susp. | ......do | do.
Stockbridge, Township of, Ingham County | 261326 | August 30, 2010, Emerg; N/A, Reg; August 16, 2011, Susp. | ......do | do.
Stockbridge, Village of, Ingham County | 260573 | January 19, 1977, Emerg; September 4, 1986, Reg; August 16, 2011, Susp. | ......do | do.
Webberville, Village of, Ingham County | 260416 | June 24, 1976, Emerg; August 10, 1979, Reg; August 16, 2011, Susp. | ......do | do.
White Oak, Township of, Ingham County | 260417 | April 28, 1988, Emerg; July 16, 1990, Reg; August 16, 2011, Susp. | ......do | do.
Williamston, City of, Ingham County | 260094 | July 24, 1975, Emerg; April 1, 1982, Reg; August 16, 2011, Susp. | ......do | do.
Williamstown, Township of, Ingham County | 260095 | January 27, 1977, Emerg; April 15, 1982, Reg; August 16, 2011, Susp. | ......do | do.
Minnesota:
Benton County, Unincorporated Areas | 270019 | August 13, 1974, Emerg; January 2, 1981, Reg; August 16, 2011, Susp. | ......do | do.
Foley, City of, Benton County | 270020 | May 2, 1974, Emerg; September 18, 1985, Reg; August 16, 2011, Susp. | ......do | do.
Royalton, City of, Benton County | 270303 | April 5, 1974, Emerg; March 28, 1980, Reg; August 16, 2011, Susp. | ......do | do.
Sartell, City of, Benton County | 270460 | July 5, 1974, Emerg; February 15, 1980, Reg; August 16, 2011, Susp. | ......do | do.
Sauk Rapids, City of, Benton County | 270023 | June 18, 1973, Emerg; October 14, 1977, Reg; August 16, 2011, Susp. | ......do | do.
St. Cloud, City of, Benton County | 270456 | March 31, 1972, Emerg; April 1, 1977, Reg; August 16, 2011, Susp. | ......do | do.
Ohio:
Berkey, Village of, Lucas County | 390901 | N/A, Emerg; March 8, 2005, Reg; August 16, 2011, Susp. | ......do | do.
Byesville, Village of, Guernsey County | 390199 | June 17, 1975, Emerg; February 17, 1989, Reg; August 16, 2011, Susp. | ......do | do.
Cumberland, Village of, Guernsey County | 390824 | October 26, 1988, Emerg; February 17, 1989, Reg; August 16, 2011, Susp. | ......do | do.
Harbor View, Village of, Lucas County | 390702 | October 8, 1976, Emerg; May 25, 1978, Reg; August 16, 2011, Susp. | ......do | do.
Holland, Village of, Lucas County | 390659 | March 13, 1975, Emerg; September 22, 1978, Reg; August 16, 2011, Susp. | ......do | do.
Lore City, Village of, Guernsey County | 390202 | March 25, 1976, Emerg; February 17, 1989, Reg; August 16, 2011, Susp. | ......do | do.
Lucas County, Unincorporated Areas | 390359 | March 9, 1977, Emerg; March 16, 1983, Reg; August 16, 2011, Susp. | ......do | do.
Maumee, City of, Lucas County | 390360 | July 25, 1975, Emerg; March 28, 1980, Reg; August 16, 2011, Susp. | ......do | do.
Oregon, City of, Lucas County | 390361 | March 16, 1973, Emerg; March 15, 1978, Reg; August 16, 2011, Susp. | ......do | do.
Ottawa Hills, Village of, Lucas County | 390362 | October 24, 1975, Emerg; June 4, 1980, Reg; August 16, 2011, Susp. | ......do | do.
Pleasant City, Village of, Guernsey County | 390203 | April 7, 1976, Emerg; January 5, 1979, Reg; August 16, 2011, Susp. | ......do | do.
Quaker City, Village of, Guernsey County | 390853 | August 28, 1980, Emerg; February 17, 1989, Reg; August 16, 2011, Susp. | ......do | do.
Sencecaville, Village of, Guernsey County | 390858 | September 15, 1989, Emerg; September 15, 1989, Reg; August 16, 2011, Susp. | ......do | do.
Swanton, Village of, Lucas County | 390632 | N/A, Emerg; April 9, 1996, Reg; August 16, 2011, Susp. | ......do | do.
Sylvania, City of, Lucas County | 390364 | February 18, 1972, Emerg; July 5, 1977, Reg; August 16, 2011, Susp. | ......do | do.
Toledo, City of, Lucas County | 395373 | December 18, 1970, Emerg; June 4, 1980, Reg; August 16, 2011, Susp. | ......do | do.
Waterville, Village of, Lucas County | 390637 | April 9, 1975, Emerg; January 2, 1981, Reg; August 16, 2011, Susp. | ......do | do.
Whitehouse, Village of, Lucas County | 390639 | August 27, 1975, Emerg; May 19, 1981, Reg; August 16, 2011, Susp. | ......do | do.
Wisconsin:
Lincoln County, Unincorporated Areas | 550585 | March 8, 1976, Emerg; February 19, 1986, Reg; August 16, 2011, Susp. | ......do | do.
Merrill, City of, Lincoln County | 555565 | April 9, 1971, Emerg; July 20, 1973, Reg; August 16, 2011, Susp. | ......do | do.
Tomahawk, City of, Lincoln County | 550235 | November 29, 1974, Emerg; September 4, 1985, Reg; August 16, 2011, Susp. | ......do | do.
Region VI
Texas:
Brenham, City of, Washington County | 480648 | December 31, 1974, Emerg; August 17, 1981, Reg; August 16, 2011, Susp. | ......do | do.
Huntsville, City of, Walker County | 480639 | January 20, 1975, Emerg; February 4, 1981, Reg; August 16, 2011, Susp. | ......do | do.
Montague County, Unincorporated Areas | 480939 | August 30, 1982, Emerg; January 17, 1991, Reg; August 16, 2011, Susp. | ......do | do.
Nocona, City of, Montague County | 480482 | July 22, 1975, Emerg; November 21, 1978, Reg; August 16, 2011, Susp. | ......do | do.
Paris, City of, Lamar County | 480427 | February 25, 1972, Emerg; December 15, 1983, Reg; August 16, 2011, Susp. | ......do | do.
Reno, City of, Lamar County | 481254 | January 9, 1980, Emerg; September 28, 1982, Reg; August 16, 2011, Susp. | ......do | do.
Riverside, City of, Walker County | 481044 | June 28, 2000, Emerg; November 1, 2007, Reg; August 16, 2011, Susp. | ......do | do.
Walker County, Unincorporated Areas | 481042 | August 18, 1978, Emerg; May 1, 1987, Reg; August 16, 2011, Susp. | ......do | do.
Washington County, Unincorporated Areas | 481188 | January 16, 2001, Emerg; December 1, 2007, Reg; August 16, 2011, Susp. | ......do | do.
Region VII
Iowa:
Elgin, City of, Fayette County | 190125 | June 18, 1975, Emerg; August 4, 1987, Reg; August 16, 2011, Susp. | ......do | do.
Fayette County, Unincorporated Areas | 190866 | November 27, 1990, Emerg; July 1, 1991, Reg; August 16, 2011, Susp. | ......do | do.
Fayette, City of, Fayette County | 190376 | April 27, 1978, Emerg; September 1, 1987, Reg; August 16, 2011, Susp. | ......do | do.
Maynard, City of, Fayette County | 190377 | September 29, 1976, Emerg; August 1, 1986, Reg; August 16, 2011, Susp. | ......do | do.
Oelwein, City of, Fayette County | 190126 | October 14, 1975, Emerg; July 4, 1988, Reg; August 16, 2011, Susp. | ......do | do.
Waucoma, City of, Fayette County | 190381 | July 15, 1983, Emerg; September 29, 1986, Reg; August 16, 2011, Susp. | ......do | do.
What Cheer, City of, Keokuk County | 190179 | January 28, 1976, Emerg; August 1, 1987, Reg; August 16, 2011, Susp. | ......do | do.
Nebraska:
Butler County, Unincorporated Areas | 310025 | October 29, 1998, Emerg; N/A, Reg; August 16, 2011, Susp. | ......do | do.
Bruno, Village of, Butler County | 310027 | June 4, 1975, Emerg; January 1, 1987, Reg; August 16, 2011, Susp. | ......do | do.
Linwood, Village of, Butler County | 310028 | May 25, 1976, Emerg; January 1, 1987, Reg; August 16, 2011, Susp. | ......do | do.
Surprise, Village of, Butler County | 310408 | July 22, 2009, Emerg; N/A, Reg; August 16, 2011, Susp. | ......do | do.
Ulysses, Village of, Butler County | 310029 | May 6, 1975, Emerg; October 31, 1983, Reg; August 16, 2011, Susp. | ......do | do.
*......do = Ditto.
Code for reading third column: Emerg.—Emergency; Reg.—Regular; Susp.—Suspension.

Dated: July 29, 2011
Sandra K. Knight,
Deputy Federal Insurance and Mitigation Administrator, Mitigation.

[FR Doc. 2011-20279 Filed 8-9-11; 8:45 am]

BILLING CODE 9110-12-P